DEPARTMENT OF LABOR

Employment and Training Administration

Investigations Regarding Certifications of Eligibility To Apply for Worker Adjustment Assistant

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separation began or threatened to begin and the subdivision of the firm involved.

The petitioners or any other persons showing a substantial interest in the subject matter of the investigations may request a public hearing, provided such request is filed in writing with the Director, Division of Trade Adjustment Assistance, at the address shown below, not later than March 8, 2004.

Interested persons are invited to submit written comments regarding the subject matter of the investigations to the Director, Division of Trade Adjustment Assistance, at the address shown below, not later than March 8, 2004.

The petitions filed in this case are available for inspection at the Office of the Director, Division of Trade Adjustment Assistance, Employment and Training Administration, U.S. Department of Labor, Room C-5311, 200 Constitution Avenue, NW., Washington, DC 20210.

Signed in Washington, DC this 17th day of February, 2004.
Timothy Sullivan,
Director, Division of Trade Adjustment Assistance.

Appendix
[Petitions Instituted Between 02/02/2004 and 02/06/2004]
TA-W | Subject firm (petitioners) | Location | Date of institution | Date of petition
54,129 | KEMET Electronics Corp. (Comp) | Simpsonville, SC | 02/02/2004 | 01/30/2004
54,130 | Kvaerner Oilfield Products (Comp) | Houston, TX | 02/02/2004 | 01/20/2004
54,131 | AMCC (Wkrs) | Fort Collins, CO | 02/02/2004 | 01/26/2004
54,132 | National Textiles (Wkrs) | Eden, NC | 02/02/2004 | 01/20/2004
54,133 | Peavey Electronics (Wkrs) | Meridian, MS | 02/02/2004 | 01/16/2004
54,134 | Woodstock Percussion (Wkrs) | Shokan, NY | 02/02/2004 | 01/20/2004
54,135 | WiniterQuest, LLC (Comp) | Grand Junction, CO | 02/02/2004 | 01/21/2004
54,136 | El Financiers (CA) | Los Angeles, CA | 02/02/2004 | 01/22/2004
54,137 | Dan River, Inc. (Wkrs) | Juliette, GA | 02/02/2004 | 01/20/2004
54,138 | Liberty Textiles (Wkrs) | Eden, NC | 02/02/2004 | 01/21/2004
54,139 | Cosco Industries (Comp) | Manistee, MI | 02/02/2004 | 01/19/2004
54,140 | Ashton Photo (Wkrs) | Salem, OR | 02/02/2004 | 01/26/2004
54,141 | Tyco Healthcare Kendall (USWA) | Argyle, NY | 02/02/2004 | 01/20/2004
54,142 | Tyson Foods, Inc. (UFCW) | Manchester, NH | 02/02/2004 | 01/23/2004
54,143 | Elizabeth Weaving, Inc. (Comp) | Groveer, NC | 02/02/2004 | 01/21/2004
54,144 | Universal Aerospace Co. (Comp) | Arlington, VA | 02/02/2004 | 01/16/2004
54,145 | Boeing Commercial Aircraft (IAM) | Chicago, IL | 02/02/2004 | 01/21/2004
54,146 | L.S. Starrett Co. (Comp) | Alum Bank, PA | 02/03/2004 | 02/02/2004
54,147 | Metso Minerals Industries (Comp) | Colo. Springs, CO | 02/03/2004 | 02/02/2004
54,148 | Bombardier Learjet (IAM) | Whichita, KS | 02/03/2004 | 01/28/2004
54,149 | Schott Scientific Glass (USWA) | Parkersburg, WV | 02/03/2004 | 02/02/2004
54,150 | B.J. Cutting (Comp) | Hazleton, PA | 02/03/2004 | 01/05/2004
54,151 | Haworth, Inc.—Comforto (Comp) | Lincolnton, NC | 02/03/2004 | 01/29/2004
54,152 | Kwikset (Comp) | Bristow, OK | 02/03/2004 | 01/30/2004
54,153 | Myron Corp. (NJ) | Maywood, NJ | 02/03/2004 | 02/02/2004
54,154 | EPM—Performance Solutions Division (Comp) | Austin, TX | 02/03/2004 | 01/29/2004
54,155 | Wyeth Nutritional (VT) | Georgia, VT | 02/03/2004 | 02/02/2004
54,156 | Rocky Shoes and Boots (Comp) | Nelsonville, OH | 02/04/2004 | 01/30/2004
54,157 | Marco Apparel—Margrove, Inc. (Comp) | Walnut Grove, MS | 02/04/2004 | 02/03/2004
54,158 | Bestt Liebco Corporation (Comp) | Fond du Lac, WI | 02/04/2004 | 02/03/2004
54,159 | Advanced Modeling and Consulting, Inc. (Comp) | Fairview, PA | 02/04/2004 | 02/03/2004
54,160 | Stanley Brothers LLC (State) | Lincoln, ME | 02/04/2004 | 01/28/2004
54,161 | Loftin-Black Furniture (State) | Thomasville, NC | 02/04/2004 | 01/23/2004
54,162 | International Computer Consulting Group (Comp) | San Diego, CA | 02/04/2004 | 01/07/2004
54,163 | Manpower, Inc. (State) | Roswell, NM | 02/04/2004 | 01/15/2004
54,164 | Maida Development Company (Comp) | Hampton, VA | 02/04/2004 | 01/28/2004
54,165 | Goodman Equipment Corp. (Wkrs) | Bedford Park, IL | 02/04/2004 | 02/03/2004
54,166 | Harriet and Henderson Yarns, Inc. (State) | Fort Payne, AL | 02/04/2004 | 01/23/2004
54,167 | Its/Quest—MCI (Wkrs) | Roswell, NM | 02/05/2004 | 01/26/2004
54,168 | Handgards (Comp) | El Paso, TX | 02/05/2004 | 01/28/2004
54,169 | IBM (Wkrs) | Essex Junction, VT | 02/05/2004 | 01/30/2004
54,170 | Hunter Corporation (Comp) | Portage, IN | 02/05/2004 | 01/30/2004
54,171 | Chromalox, Inc. (Comp) | Vernon, AL | 02/05/2004 | 07/23/2003
54,172 | WCI Steel, Inc. (Comp) | Warren, OH | 02/05/2004 | 01/30/2004
54,173 | Lauri, Inc. (Comp) | Avon, ME | 02/05/2004 | 01/26/2004
54,174 | Nexpak (AZ) | Tucson, AZ | 02/05/2004 | 01/29/2004
54,175 | Andrew Corporation (NJ) | Warren, NJ | 02/05/2004 | 01/30/2004
54,176 | Malamute Enterprises, Inc. (Comp) | Homer, AK | 02/06/2004 | 01/29/2004
54,177 | AmCast Automotive (UAW) | Richmond, IN | 02/06/2004 | 12/17/2003
54,178 | Drexel Heritage Furniture Industries (Wkrs) | Marion, NC | 02/06/2004 | 01/30/2004
54,179 | Sea Gull Lighting Products (Wkrs) | Phildelphia, PA | 02/06/2004 | 01/28/2004
54,180 | Michael's of Carolina (Wkrs) | Nichols, SC | 02/06/2004 | 01/02/2004
54,181 | Oxford Industries (Comp) | Gaffney, SC | 02/06/2004 | 02/04/2004
54,182 | Flexsys America, L.P. (USWA) | Nitro, WV | 02/06/2004 | 02/04/2004
54,183 | Northland Cranberries, Inc. (Wkrs) | Jackson, WI | 02/06/2004 | 02/04/2004
54,184 | Tropical Sportswear Int'l corp. (FL) | Tampa, FL | 02/06/2004 | 01/15/2004
54,185 | CMD3d (ME) | Saco, ME | 02/06/2004 | 01/21/2004
54,186 | Scholler, Inc. (Comp) | Southhampton, PA | 02/06/2004 | 02/04/2004
54,187 | ABB, Inc. (UAW) | Warminster, PA | 02/06/2004 | 02/02/2004
54,188 | Ispat Inland, Inc. (Comp) | Chicago, IL | 02/06/2004 | 02/03/2003
54,189 | Bloomsburg Mills, | Bloomsburg, PA | 02/06/2004 | 02/03/2004
54,190 | ISA Breeders, Inc. (Comp) | Ithaca, NY | 02/06/2004 | 02/04/2004
54,191 | Hewlett Packard Co. (Wkrs) | Atlanta, GA | 02/06/2004 | 02/04/2004
54,192 | NCR Corporation (Wkrs) | San Diego, CA | 02/06/2004 | 01/16/2004
54,193 | Gates Corporation (Comp) | Denver, CO | 02/06/2004 | 02/04/1004
54,194 | DANA (Wkrs) | Manchester, MO | 02/06/2004 | 01/30/2004
54,195 | Tyco Valves and Controls (GMP) | Prophetstown, IL | 02/06/2004 | 02/04/2004
54,196 | Shape Global Technology (Comp) | Sanford, ME | 02/06/2004 | 02/04/2004
54,197 | Electric Motor Repair Center (Comp) | Shelby, NC | 02/06/2004 | 01/30/2004

[FR Doc. 04-4091 Filed 2-24-04; 8:45 am]

BILLING CODE 4510-30-M